INTERNATIONAL TRADE COMMISSION

[Investigation No. 332-574]

Renewable Electricity: Potential Economic Effects of Increased Commitments in Massachusetts; Institution of Investigation and Scheduling of Hearing

AGENCY: United States International Trade Commission.

ACTION: Notice of investigation and scheduling of a public hearing.

SUMMARY: Following receipt on January 23, 2020, of a request from the Committee on Ways and Means (Committee) of the U.S. House of Representatives, under section 332(g) of the Tariff Act of 1930, the U.S. International Trade Commission (Commission) instituted Investigation No. 332-574, Renewable Electricity: Potential Economic Effects of Increased Commitments in Massachusetts, for the purpose of providing a report regarding the potential economic effects of increased renewable energy commitments in Massachusetts, and the role of renewable electricity imports in meeting these commitments.

DATES:

April 16, 2020: Deadline for filing requests to appear at the public hearing.

April 23, 2020: Deadline for filing prehearing briefs and statements.

May 7, 2020: Public hearing.

May 15, 2020: Deadline for filing post-hearing briefs and statements.

July 28, 2020: Deadline for filing all other written submissions.

January 25, 2021: Transmittal of Commission report to the Committee.

ADDRESSES: All Commission offices, including the Commission's hearing rooms, are located in the U.S. International Trade Commission Building, 500 E Street SW, Washington, DC. All written submissions should be addressed to the Secretary, U.S. International Trade Commission, 500 E Street SW, Washington, DC 20436. The public record for this investigation may be viewed on the Commission's electronic docket (EDIS) at https://edis.usitc.gov.

FOR FURTHER INFORMATION CONTACT: Project Leader Diana Friedman (202-205-3433 or diana.friedman@usitc.gov) or Deputy Project Leader Patricia Mueller (202-205-2599 or patricia.mueller@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its website (https://www.usitc.gov). Persons with mobility impairments who will need special assistance in gaining access to the Commission should contact the Office of the Secretary at 202-205-2000.

SUPPLEMENTARY INFORMATION:

Background: As requested by the Committee, the Commission will conduct an investigation and prepare a report that provides, to the extent practical, the following information:

(1) An overview of the current situation and recent trends in New England and Massachusetts electricity markets with regard to domestic and imported electricity sources and rates for residential and commercial uses, and the status of the transition from nuclear and fossil fuels to renewable sources. This overview will include a description of the Commonwealth's most recent renewable energy goals and commitments as compared to previous commitments and initiatives, as well as the renewable energy goals and commitments in other New England states, and the potential available resources to meet those goals;

(2) A quantitative analysis of the potential economic effects on the Commonwealth, and broader New England region, of Massachusetts reaching its goals and commitments for renewable electricity sourcing. The analysis should include, for example, the potential economic effects on residential and commercial consumers of electricity;

(3) A quantitative analysis of the likely effects on greenhouse gas emissions of meeting these goals and commitments; and

(4) Relevant case studies involving other states, regions, or countries that provide insights into the potential economic effects of imports of hydroelectricity, including on efforts to meet renewable energy targets, the rates paid by commercial and residential consumers, and on greenhouse gas emissions.

The Committee requested that the analysis not focus on proposed or pending renewable energy transmission projects. The Committee asked that the Commission deliver the report 12 months from the date of the letter, and the Commission expects to transmit its report by January 25, 2021. The Committee stated that it intends to make the Commission's report available to the public and asked that the report not include any confidential business information. The Committee noted that it had sent an earlier version of this letter and asked that the Commission accept the January 23, 2020 letter as a replacement for the Committee's letter of December 19, 2019.

Public Hearing: A public hearing in connection with this investigation will be held at the U.S. International Trade Commission Building, 500 E Street SW, Washington, DC, beginning at 9:30 a.m. on May 7, 2020. Requests to appear at the public hearing should be filed with the Secretary no later than 5:15 p.m., April 16, 2020, in accordance with the requirements in the “Written Submissions” section below. All prehearing briefs and statements should be filed not later than 5:15 p.m., April 23, 2020, and all post-hearing briefs and statements should be filed not later than 5:15 p.m., May 15, 2020. Post-hearing briefs and statements should address matters raised at the hearing. In the event that, as of the close of business on April 23, 2020, no witnesses are scheduled to appear at the hearing, the hearing will be canceled. Any person interested in attending the hearing as an observer or nonparticipant should contact the Office of the Secretary at 202-205-2000 after April 23, 2020, for information concerning whether the hearing will be held.

Written Submissions: In lieu of or in addition to participating in the hearing, interested parties are invited to file written submissions concerning this investigation. All written submissions should be addressed to the Secretary, and should be received not later than 5:15 p.m., July 28, 2020. All written submissions must conform to the provisions of section 201.8 of the Commission's Rules of Practice and Procedure (19 CFR 201.8). Section 201.8, as further explained in the Commission's Handbook on Filing Procedures, requires that interested parties file documents electronically on or before the filing deadline. Interested parties must submit eight (8) true paper copies by 12:00 p.m. Eastern Time on the next business day. In the event that confidential treatment of a document is requested, interested parties must file, at the same time as the eight paper copies, at least four (4) additional true paper copies in which the confidential information must be deleted (see the following paragraphs for further information regarding confidential business information). Persons with questions regarding electronic filing should contact the Office of the Secretary, Docket Services Division (202-205-1802).

Confidential Business Information. Any submissions that contain confidential business information must also conform to the requirements of section 201.6 of the Commission's Rules of Practice and Procedure (19 CFR 201.6). Section 201.6 of the rules requires that the cover of the document and the individual pages be clearly marked as to whether they are the “confidential” or “non-confidential” version, and that the confidential business information is clearly identified by means of brackets. All written submissions, except for confidential business information, will be made available for inspection by interested parties.

As requested by the Committee, the Commission will not include any confidential business information in the report that it sends to the Committee. However, all information, including confidential business information, submitted in this investigation may be disclosed to and used: (i) By the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel (a) for cybersecurity purposes or (b) in monitoring user activity on U.S. government classified networks. The Commission will not otherwise disclose any confidential business information in a way that would reveal the operations of the firm supplying the information.

Summaries of Written Submissions: Persons wishing to have a summary of their position included in the report should include a summary with their written submission and should mark the summary as having been provided for that purpose. The summary should be clearly marked as “summary for inclusion in the report” at the top of the page. The summary may not exceed 500 words, should be in MS Word format or a format that can be easily converted to MS Word, and should not include any confidential business information. The summary will be published as provided if it meets these requirements and is germane to the subject matter of the investigation. The Commission will list the name of the organization furnishing the summary and will include a link to the Commission's Electronic Document Information System (EDIS) where the full written submission can be found.

By order of the Commission.
Issued: February 12, 2020.
Lisa Barton,
Secretary to the Commission.

[FR Doc. 2020-03191 Filed 2-18-20; 8:45 am]

BILLING CODE 7020-02-P